ENVIRONMENTAL PROTECTION AGENCY

40 CFR Part 1, 21, 59, 60, 61, 63, 65, 147, 374, 707, and 763

[EPA-R04-OAR-2023-0519; FRL-12260-01-R4]

Regional Office Address

AGENCY: Environmental Protection Agency (EPA).

ACTION: Final rule; technical amendments.

SUMMARY: The Environmental Protection Agency (EPA) is amending its regulations to reflect a change in address and organization names for EPA's Region 4 office. This action is editorial in nature and is intended to provide accuracy and clarity to EPA's regulations.

DATES: This final rule is effective October 31, 2024.

ADDRESSES: EPA Region 4, 61 Forsyth Street SW, Atlanta, Georgia 30303-8960.

FOR FURTHER INFORMATION CONTACT: Sarah LaRocca, Air Planning and Implementation Branch, Air and Radiation Division, U.S. Environmental Protection Agency, Region 4, 61 Forsyth Street SW, Atlanta, Georgia 30303-8960. Ms. LaRocca can be reached via electronic mail at larocca.sarah@epa.gov or via telephone at (404) 562-8994.

SUPPLEMENTARY INFORMATION:

I. Background and Purpose

EPA is amending its regulations in title 40 of the Code of Federal Regulations (CFR), parts 1, 21, 59, 60, 61, 63, 65, 147, 374, 707, and 763, to reflect a change in the mailing address for EPA's Region 4 office. This technical amendment merely updates and corrects the address for the Region 4 office and does not otherwise impose or amend any requirements.¹

¹ This amendment also updates and corrects the addresses for the Georgia Department of Natural Resources and North Carolina Department of Environmental Quality in 40 CFR 147.550(a) and 147.1700(a), respectively, because those rules also contain an incorrect address for EPA's Region 4 office.

Pursuant to 5 U.S.C. 553(b)(B) of the Administrative Procedure Act (APA), EPA has found that the public notice and comment provisions of the APA, found at 5 U.S.C. 553(b), do not apply to this rulemaking. Public notice and comment is unnecessary because this amendment to the regulations provides only technical changes to update addresses and organization names. EPA has also determined that there is good cause to waive the requirement of publication 30 days in advance of the rule's effective date pursuant to 5 U.S.C. 553(d)(3) in order to expedite the public's access to the correct address and organization names of EPA Region 4.

II. Statutory and Executive Order Reviews

This final rule implements technical amendments to 40 CFR parts 1, 21, 59, 60, 61, 63, 65, 147, 374, 707, and 763 to reflect a change in address of EPA's Region 4 office. It does not otherwise impose or amend any requirements. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it does not concern an environmental health or safety risk;

• Is not a significant regulatory action subject to Executive Order 13211 (66 FR 28355, May 22, 2001); and

• Is not subject to requirements of section 12(d) of the National Technology Transfer and Advancement Act of 1995 (15 U.S.C. 272 note) because this technical correction does not involve technical standards.

In addition, this action does not have Tribal implications and will not impose substantial direct costs on Tribal governments or preempt Tribal law as specified by Executive Order 13175 (65 FR 67249, November 9, 2000).

Executive Order 12898 (Federal Actions to Address Environmental Justice in Minority Populations and Low-Income Populations, 59 FR 7629, February 16, 1994) directs Federal agencies to identify and address “disproportionately high and adverse human health or environmental effects” of their actions on communities with environmental justice (EJ) concerns to the greatest extent practicable and permitted by law. EPA defines EJ as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.” EPA did not perform an EJ analysis and did not consider EJ in this action. Consideration of EJ is not required as part of this action, and there is no information in the record inconsistent with the stated goal of E.O. 12898 of achieving EJ for communities with EJ concerns.

This action is subject to the Congressional Review Act, and EPA will submit a rule report to each House of the Congress and to the Comptroller General of the United States. This action is not a “major rule” as defined by 5 U.S.C. 804(2).

List of Subjects

40 CFR Part 1

Environmental protection, Organization and functions (Government agencies).

40 CFR Part 21

Small businesses.

40 CFR Part 59

Air pollution control, Reporting and recordkeeping requirements, Volatile organic compounds.

40 CFR Part 60

Administrative practice and procedure, Reporting and recordkeeping requirements.

40 CFR Part 61

Reporting and recordkeeping requirements.

40 CFR Part 63

Environmental protection, Administrative practice and procedure, Air pollution control, Hazardous substances, Reporting and recordkeeping requirements.

40 CFR Part 65

Air pollution control, Intergovernmental relations, Reporting and recordkeeping requirements.

40 CFR Part 147

Environmental protection, Incorporation by reference.

40 CFR Part 374

Administrative practice and procedure, Hazardous substances, Hazardous waste, Superfund.

40 CFR Part 707

Environmental protection, Chemicals, Exports, Hazardous substances, Imports, Reporting and recordkeeping requirement.

40 CFR Part 763

Administrative practice and procedure, Asbestos, Intergovernmental relations, Reporting and recordkeeping requirements, Schools.

Dated: October 16, 2024.
Jeaneanne Gettle,
Acting Regional Administrator, Region 4.

Therefore, chapter I of title 40 of the Code of Federal Regulations is amended as follows:

PART 1—STATEMENT OF ORGANIZATION AND GENERAL INFORMATION

1. The authority citation of part 1 continues to read as follows:

Authority: 5 U.S.C. 552; Reorganization Plan No. 3 of 1970, 84 Stat. 2086 (July 9, 1970).

Subpart A—Introduction

2. Section 1.7 is amended by revising paragraph (b)(4) to read as follows:

§ 1.7 Location of principle offices.

* * * * *

(b) * * *

(4) Region IV, U.S. Environmental Protection Agency, 61 Forsyth Street SW, Atlanta, Georgia 30303-8960. (Alabama, Florida, Georgia, Kentucky, Mississippi, North Carolina, South Carolina, and Tennessee.)

* * * * *

PART 21—SMALL BUSINESS

3. The authority for part 21 continues to read as follows:

Authority: 15 U.S.C. 636, as amended by Pub. L. 92-500.

4. Section 21.3 is amended in the table in paragraph (a) by revising entry “IV” to read as follows:

§ 21.3 Submission of applications.

(a) * * *

Region | Address | State
* * * * * * *
IV | Regional Administrator, Region IV, EPA, 61 Forsyth Street SW, Atlanta, Georgia 30303-8960 | Alabama, Florida, Georgia, Kentucky, Mississippi, North Carolina, South Carolina, and Tennessee.
* * * * * * *

* * * * *

PART 59—NATIONAL VOLATILE ORGANIC COMPOUND EMISSION STANDARDS FOR CONSUMER AND COMMERCIAL PRODUCTS

5. The authority citation for part 59 continues to read as follows:

Authority: 42 U.S.C. 7414 and 7511b(e).

Subpart B—National Volatile Organic Compound Emission Standards for Automobile Refinish Coatings

6. Section 59.107 is revised and republished to read as follows:

§ 59.107 Addresses of EPA Regional Offices.

All requests, reports, submittals, and other communications to the Administrator pursuant to this subpart shall be submitted to the Regional Office of the EPA which serves the State or territory in which the corporate headquarters of the regulated entity resides. These areas are indicated in the following table.

Table 1 to § 59.107
Region | Address | State
I | Director, Enforcement and Compliance Assurance Division, U.S. EPA Region I, 5 Post Office Square—Suite 100 (04-2), Boston, MA 02109-3912, Attn: Air Compliance Clerk | Connecticut, Maine, Massachusetts, New Hampshire, Rhode Island, Vermont.
II | Director, Division of Enforcement and Compliance Assistance, 290 Broadway, New York, NY 10007-1866 | New Jersey, New York, Puerto Rico, Virgin Islands.
III | Air Protection Division, 1650 Arch Street, Philadelphia, PA 19103 | Delaware, District of Columbia, Maryland, Pennsylvania, Virginia, West Virginia.
IV | Director, Air and Radiation Division, 61 Forsyth Street SW, Atlanta, Georgia 30303-8960 | Alabama, Florida, Georgia, Kentucky, Mississippi, North Carolina, South Carolina, Tennessee.
V | Director, Air and Radiation Division, 77 West Jackson Blvd., Chicago, IL 60604-3507 | Illinois, Indiana, Michigan, Minnesota, Ohio, Wisconsin.
VI | Director, Enforcement and Compliance Assurance Division, 1201 Elm Street, Suite 500, Dallas, Texas 75270-2102 | Arkansas, Louisiana, New Mexico, Oklahoma, Texas.
VII | Director, Air and Waste Management Division, 11201 Renner Boulevard, Lenexa, Kansas 66219 | Iowa, Kansas, Missouri, Nebraska.
VIII | Director, Air and Toxics Division, 999 18th Street, 1 Denver Place, Suite 500, Denver, Colorado 80202-2405 | Colorado, Montana, North Dakota, South Dakota, Utah, Wyoming.
IX | Director, Air Division, 75 Hawthorne Street, San Francisco, CA 94105 | Arizona, California, Hawaii and Nevada; the territories of American Samoa and Guam; the Commonwealth of the Northern Mariana Islands; the territories of Baker Island, Howland Island, Jarvis Island, Johnston Atoll, Kingman Reef, Midway Atoll, Palmyra Atoll, and Wake Islands; and certain U.S. Government activities in the freely associated states of the Republic of the Marshall Islands, the Federated States of Micronesia, and the Republic of Palau.
X | Director, Air and Toxics Division, 1200 Sixth Avenue, Seattle, WA 98101 | Alaska, Oregon, Idaho, Washington.

Subpart C—National Volatile Organic Compound Emission Standards for Consumer Products

7. Section 59.210 is revised and republished to read as follows:

§ 59.210 Addresses of EPA Regional Offices.

All requests, reports, submittals, and other communications to the Administrator pursuant to this subpart shall be submitted to the Regional Office of the EPA which serves the State or territory in which the corporate headquarters of the regulated entity resides. These areas are indicated in the following table.

Table 1 to § 59.210
Region | Address | State
I | Director, Enforcement and Compliance Assurance Division, U.S. EPA Region I, 5 Post Office Square—Suite 100 (04-2), Boston, MA 02109-3912, Attn: Air Compliance Clerk | Connecticut, Maine, Massachusetts, New Hampshire, Rhode Island, Vermont.
II | Director, Division of Environmental Planning and Protection, 290 Broadway, New York, NY 10007 | New Jersey, New York, Puerto Rico, Virgin Islands.
III | Director, Air, Radiation, and Toxics Division, 841 Chestnut Building, Philadelphia, PA 19107 | Delaware, District of Columbia, Maryland, Pennsylvania, Virginia, West Virginia.
IV | Director, Air and Radiation Division, 61 Forsyth Street SW, Atlanta, Georgia 30303-8960 | Alabama, Florida, Georgia, Kentucky, Mississippi, North Carolina, South Carolina, Tennessee.
V | Director, Air and Radiation Division, 77 West Jackson Blvd., Chicago, IL 60604-3507 | Illinois, Indiana, Michigan, Minnesota, Ohio, Wisconsin.
VI | Director, Enforcement and Compliance Assurance Division, 1201 Elm Street, Suite 500, Mail Code 6ECD, Dallas, Texas 75270-2102 | Arkansas, Louisiana, New Mexico, Oklahoma, Texas.
VII | Director, Air and Waste Management Division, 11201 Renner Boulevard, Lenexa, Kansas 66219 | Iowa, Kansas, Missouri, Nebraska.
VIII | Director, Office of Pollution Prevention, State, and Tribal Assistance, 999 18th Street, Suite 500, Denver, Colorado 80202-2466 | Colorado, Montana, North Dakota, South Dakota, Utah, Wyoming.
IX | Director, Air Division, 75 Hawthorne Street, San Francisco, CA 94105 | Arizona, California, Hawaii and Nevada; the territories of American Samoa and Guam; the Commonwealth of the Northern Mariana Islands; the territories of Baker Island, Howland Island, Jarvis Island, Johnston Atoll, Kingman Reef, Midway Atoll, Palmyra Atoll, and Wake Islands; and certain U.S. Government activities in the freely associated states of the Republic of the Marshall Islands, the Federated States of Micronesia, and the Republic of Palau.
X | Director, Office of Air Quality, 1200 Sixth Avenue, Seattle, WA 98101 | Alaska, Oregon, Idaho, Washington.

Subpart D—National Volatile Organic Compound Emission Standards for Architectural Coatings

8. Section 59.409 is amended by revising and republishing paragraph (a) to read as follows:

§ 59.409 Addresses of EPA Offices.

(a) Except for exceedance fee payments, each manufacturer and importer of any architectural coating subject to the provisions of this subpart shall submit all requests, reports, submittals, and other communications to the Administrator pursuant to this subpart to the Regional Office of the U.S. Environmental Protection Agency that serves the State or Territory in which the corporate headquarters of the manufacturer or importer resides. These areas are indicated in the following table.

Table 1 to Paragraph (a)
Region | Address | State
I | Director, Enforcement and Compliance Assurance Division, U.S. EPA Region I, 5 Post Office Square—Suite 100 (04-2), Boston, MA 02109-3912, Attn: Air Compliance Clerk | Connecticut, Maine, Massachusetts, New Hampshire, Rhode Island, Vermont.
II | Director, Division of Enforcement and Compliance Assistance, 290 Broadway, New York, NY 10007-1866 | New Jersey, New York, Puerto Rico, Virgin Islands.
III | Director, Air Protection Division, 1650 Arch Street, Philadelphia, PA 19103 | Delaware, District of Columbia, Maryland, Pennsylvania, Virginia, West Virginia.
IV | Director, Air and Radiation Division, 61 Forsyth Street SW, Atlanta, Georgia 30303-8960 | Alabama, Florida, Georgia, Kentucky, Mississippi, North Carolina, South Carolina, Tennessee.
V | Director, Air and Radiation Division, 77 West Jackson Boulevard, Chicago, IL 60604-3507 | Illinois, Indiana, Michigan, Minnesota, Ohio, Wisconsin.
VI | Director, Enforcement and Compliance Assurance Division, 1201 Elm Street, Suite 500, Mail Code 6ECD, Dallas, Texas 75270-21022 | Arkansas, Louisiana, New Mexico, Oklahoma, Texas.
VII | Director, Air and Waste Management Division, 11201 Renner Boulevard, Lenexa, Kansas 66219 | Iowa, Kansas, Missouri, Nebraska.
VIII | Director, Office of Partnerships and Regulatory Assistance, 999 18th Street, Suite 500, Denver, Colorado 80202-2466 | Colorado, Montana, North Dakota, South Dakota, Utah, Wyoming.
IX | Director, Air Division, 75 Hawthorne Street, San Francisco, CA 94105 | American Samoa, Arizona, California, Guam, Hawaii, Nevada.
X | Director, Office of Air Quality, 1200 Sixth Avenue, Seattle, WA 98101 | Alaska, Oregon, Idaho, Washington.

* * * * *

Subpart E—National Volatile Organic Compound Emission Standards for Aerosol Coatings

9. Section 59.512 is revised and republished to read as follows:

§ 59.512 Addresses of EPA regional offices.

All requests (including variance requests), reports, submittals, and other communications to the Administrator pursuant to this subpart shall be submitted to the Regional Office of the EPA which serves the State or territory for the address that is listed on the aerosol coating product in question. These areas are indicated in the following table.

Table 1 to § 59.512
Region | Address | State
I | Director, Enforcement and Compliance Assurance Division, U.S. EPA Region I, 5 Post Office Square—Suite 100 (04-2), Boston, MA 02109-3912, Attn: Air Compliance Clerk | Connecticut, Maine, Massachusetts, New Hampshire, Rhode Island, Vermont.
II | Director, Division of Enforcement and Compliance Assistance, 290 Broadway, New York, NY 10007-1866 | New Jersey, New York, Puerto Rico, Virgin Islands.
III | Air Protection Division, 1650 Arch Street, Philadelphia, PA 19103 | Delaware, District of Columbia, Maryland, Pennsylvania, Virginia, West Virginia.
IV | Director, Air and Radiation Division, 61 Forsyth Street, SW, Atlanta, Georgia 30303-8960 | Alabama, Florida, Georgia, Kentucky, Mississippi, North Carolina, South Carolina, Tennessee.
V | Director, Air and Radiation Division, 77 West Jackson Blvd., Chicago, IL 60604-3507 | Illinois, Indiana, Michigan, Minnesota, Ohio, Wisconsin.
VI | Director, Enforcement and Compliance Assurance Division, 1201 Elm Street, Suite 500, Mail Code 6ECD, Dallas, Texas 75270-2102 | Arkansas, Louisiana, New Mexico, Oklahoma, Texas.
VII | Director, Air and Waste Management Division, 11201 Renner Boulevard, Lenexa, Kansas 66219 | Iowa, Kansas, Missouri, Nebraska.
VIII | Director, Air and Toxics Division, 1595 Wynkoop Street, Denver, CO 80202-1129 | Colorado, Montana, North Dakota, South Dakota, Utah, Wyoming.
IX | Director, Air Division, 75 Hawthorne Street, San Francisco, CA 94105 | American Samoa, Arizona, California, Guam, Hawaii, Nevada.
X | Director, Air and Toxics Division, 1200 Sixth Avenue, Seattle, WA 98101 | Alaska, Oregon, Idaho, Washington.

PART 60—STANDARDS OF PERFORMANCE FOR NEW STATIONARY SOURCES

10. The authority citation for part 60 continues to read as follows:

Authority: 42 U.S.C. 7401 et seq.

Subpart A—General Provisions

11. Section 60.4 is amended by revising and republishing paragraph (a) to read as follows:

§ 60.4 Address.

(a) All requests, reports, applications, submittals, and other communications to the Administrator pursuant to this part shall be submitted in duplicate to the appropriate Regional Office of the U.S. Environmental Protection Agency to the attention of the Director of the Division indicated in the following table.

Table 1 to Paragraph (a)
Region | Address | State
I | Director, Enforcement and Compliance Assurance Division, U.S. EPA Region I, 5 Post Office Square—Suite 100 (04-2), Boston, MA 02109-3912, Attn: Air Compliance Clerk | Connecticut, Maine, Massachusetts, New Hampshire, Rhode Island, Vermont.
II | Director, Air and Waste Management Division, U.S. Environmental Protection Agency, Federal Office Building, 26 Federal Plaza (Foley Square), New York, NY 10278 | New Jersey, New York, Puerto Rico, Virgin Islands.
III | Director, Air Protection Division, Mail Code 3AP00, 1650 Arch Street, Philadelphia, PA 19103-2029 | Delaware, District of Columbia, Maryland, Pennsylvania, Virginia, West Virginia.
IV | Director, Air and Radiation Division, 61 Forsyth Street SW, Atlanta, Georgia 30303-8960 | Alabama, Florida, Georgia, Kentucky, Mississippi, North Carolina, South Carolina, Tennessee.
V | Director, Air and Radiation Division, U.S. Environmental Protection Agency, 77 West Jackson Boulevard, Chicago, IL 60604-3590 | Illinois, Indiana, Michigan, Minnesota, Ohio, Wisconsin.
VI | Director; Enforcement and Compliance Assurance Division; U.S. Environmental Protection Agency, 1201 Elm Street, Suite 500, Mail Code 6ECD, Dallas, Texas 75270-2102 | Arkansas, Louisiana, New Mexico, Oklahoma, Texas.
VII | Director, Air and Waste Management Division, 11201 Renner Boulevard, Lenexa, Kansas 66219 | Iowa, Kansas, Missouri, Nebraska.
VIII | Director, Air and Toxics Technical Enforcement Program, Office of Enforcement, Compliance and Environmental Justice, Mail Code 8ENF-AT, 1595 Wynkoop Street, Denver, CO 80202-1129 | Colorado, Montana, North Dakota, South Dakota, Utah, Wyoming.
IX | Director, Enforcement and Compliance Assurance Division (ENF 2-1), U.S. Environmental Protection Agency Region IX, 75 Hawthorne Street, San Francisco, CA 94105 | Arizona, California, Hawaii and Nevada; the territories of American Samoa and Guam; the Commonwealth of the Northern Mariana Islands; the territories of Baker Island, Howland Island, Jarvis Island, Johnston Atoll, Kingman Reef, Midway Atoll, Palmyra Atoll, and Wake Islands; and certain U.S. Government activities in the freely associated states of the Republic of the Marshall Islands, the Federated States of Micronesia, and the Republic of Palau.
X | Director, Air and Waste Management Division, U.S. Environmental Protection Agency, 1200 Sixth Avenue, Seattle, WA 98101 | Alaska, Oregon, Idaho, Washington.

* * * * *

PART 61—NATIONAL EMISSION STANDARDS FOR HAZARDOUS AIR POLLUTANTS

13. The authority citation for part 61 continues to read as follows:

Authority: 42 U.S.C. 7401 et seq.

Subpart A—General Provisions

14. Section 61.04 is amended by revising and republishing paragraph (a) to read as follows:

§ 61.04 Address.

(a) All requests, reports, applications, submittals, and other communications to the Administrator pursuant to this part shall be submitted in duplicate to the appropriate Regional Office of the U.S. Environmental Protection Agency to the attention of the Director of the Division indicated in the following table.

Table 1 to Paragraph (a)
Region | Address | State
I | Director, Enforcement and Compliance Assurance Division, U.S. EPA Region I, 5 Post Office Square—Suite 100 (04-2), Boston, MA 02109-3912, Attn: Air Compliance Clerk | Connecticut, Maine, Massachusetts, New Hampshire, Rhode Island, Vermont.
II | Director, Air and Waste Management Division, U.S. Environmental Protection Agency, Federal Office Building, 26 Federal Plaza (Foley Square), New York, NY 10278 | New Jersey, New York, Puerto Rico, Virgin Islands.
III | Director, Air Protection Division, Mail Code 3AP00, 1650 Arch Street, Philadelphia, PA 19103-2029 | Delaware, District of Columbia, Maryland, Pennsylvania, Virginia, West Virginia.
IV | Director, Air and Radiation Division, 61 Forsyth Street SW, Atlanta, Georgia 30303-8960 | Alabama, Florida, Georgia, Kentucky, Mississippi, North Carolina, South Carolina, Tennessee.
V | Director, Air and Radiation Division, U.S. Environmental Protection Agency, 77 West Jackson Boulevard, Chicago, IL 60604-3590 | Illinois, Indiana, Michigan, Minnesota, Ohio, Wisconsin.
VI | Director; Enforcement and Compliance Assurance Division; U.S. Environmental Protection Agency, 1201 Elm Street, Suite 500, Mail Code 6ECD, Dallas, Texas 75270-2102 | Arkansas, Louisiana, New Mexico, Oklahoma, Texas.
VII | Director, Air and Waste Management Division, 11201 Renner Boulevard, Lenexa, Kansas 66219 | Iowa, Kansas, Missouri, Nebraska.
VIII | Director, Air and Toxics Technical Enforcement Program, Office of Enforcement, Compliance and Environmental Justice, Mail Code 8ENF-AT, 1595 Wynkoop Street, Denver, CO 80202-1129 | Colorado, Montana, North Dakota, South Dakota, Utah, Wyoming.
IX | Director, Enforcement and Compliance Assurance Division (ENF 2-1), U.S. Environmental Protection Agency Region IX, 75 Hawthorne Street, San Francisco, CA 94105 | Arizona, California, Hawaii and Nevada; the territories of American Samoa and Guam; the Commonwealth of the Northern Mariana Islands; the territories of Baker Island, Howland Island, Jarvis Island, Johnston Atoll, Kingman Reef, Midway Atoll, Palmyra Atoll, and Wake Islands; and certain U.S. Government activities in the freely associated states of the Republic of the Marshall Islands, the Federated States of Micronesia, and the Republic of Palau.
X | Director, Office of Air Quality, U.S. Environmental Protection Agency, 1200 Sixth Avenue (OAQ-107), Seattle, WA 98101 | Alaska, Idaho, Oregon, Washington.

* * * * *

PART 63—NATIONAL EMISSION STANDARDS FOR HAZARDOUS AIR POLLUTANTS FOR SOURCE CATEGORIES

15. The authority citation for part 63 continues to read as follows:

Authority: 42 U.S.C. 7401 et seq.

Subpart A—General Provisions

16. Section 63.13 is amended by revising and republishing paragraph (a) to read as follows:

§ 63.13 Addresses of State air pollution control agencies and EPA Regional Offices.

(a) All requests, reports, applications, submittals, and other communications to the Administrator pursuant to this part shall be submitted to the appropriate Regional Office of the U.S. Environmental Protection Agency indicated in the following table. If a request, report, application, submittal, or other communication is required by this part to be submitted electronically via the EPA's CEDRI then such submission satisfies the requirements of this paragraph (a).

Table 1 to Paragraph (a)
Region | Address | State
I | Director, Enforcement and Compliance Assurance Division, U.S. EPA Region I, 5 Post Office Square—Suite 100 (04-2), Boston, MA 02109-3912, Attn: Air Compliance Clerk | Connecticut, Maine, Massachusetts, New Hampshire, Rhode Island, Vermont.
II | Director, Air and Waste Management Division, 26 Federal Plaza, New York, NY 10278 | New Jersey, New York, Puerto Rico, Virgin Islands.
III | Director, Air Protection Division, 1650 Arch Street, Philadelphia, PA 19103 | Delaware, District of Columbia, Maryland, Pennsylvania, Virginia, West Virginia.
IV | Director, Air and Radiation Division, 61 Forsyth Street, SW, Atlanta, Georgia 30303-8960 | Alabama, Florida, Georgia, Kentucky, Mississippi, North Carolina, South Carolina, Tennessee.
V | Director, Air and Radiation Division, 77 West Jackson Blvd., Chicago, IL 60604-3507 | Illinois, Indiana, Michigan, Minnesota, Ohio, Wisconsin.
VI | Director; Enforcement and Compliance Assurance Division; U.S. Environmental Protection Agency, 1201 Elm Street, Suite 500, Mail Code 6ECD, Dallas, Texas 75270-2102 | Arkansas, Louisiana, New Mexico, Oklahoma, Texas.
VII | Director, Air and Waste Management Division, 11201 Renner Boulevard, Lenexa, Kansas 66219 | Iowa, Kansas, Missouri, Nebraska.
VIII | Director, Air and Toxics Technical Enforcement Program, Office of Enforcement, Compliance and Environmental Justice, Mail Code 8ENF-AT, 1595 Wynkoop Street, Denver, CO 80202-1129 | Colorado, Montana, North Dakota, South Dakota, Utah, Wyoming.
IX | Director, Air Division, 75 Hawthorne Street, San Francisco, CA 94105 | Arizona, California, Hawaii, Nevada; the territories of American Samoa and Guam; the Commonwealth of the Northern Mariana Islands; the territories of Baker Island, Howland Island, Jarvis Island, Johnston Atoll, Kingman Reef, Midway Atoll, Palmyra Atoll, and Wake Islands; and certain U.S. Government activities in the freely associated states of the Republic of the Marshall Islands, the Federated States of Micronesia, and the Republic of Palau.
X | Director, Office of Air Quality, 1200 Sixth Avenue (OAQ-107), Seattle, WA 98101 | Alaska, Idaho, Oregon, Washington.

* * * * *

PART 65—CONSOLIDATED FEDERAL AIR RULE

17. The authority citation for part 65 continues to read as follows:

Authority: 42 U.S.C. 7401 et seq.

Subpart A—General Provisions

18. Section 65.14 is amended by revising and republishing paragraph (a) to read as follows:

§ 65.14 Addresses.

(a) All requests, reports, applications, notifications, and other communications submitted pursuant to this part, except as specified under § 65.5(g)(1), shall be sent to the Administrator at the appropriate EPA Regional Office indicated in the following table:

Table 1 to Paragraph (a)
Region | Address | State
I | Director, Enforcement and Compliance Assurance Division, U.S. EPA Region I, 5 Post Office Square—Suite 100 (04-2), Boston, MA 02109-3912, Attn: Air Compliance Clerk | Connecticut, Maine, Massachusetts, New Hampshire, Rhode Island, Vermont.
II | Director, Air and Waste Management Division, U.S. Environmental Protection Agency, 290 Broadway, New York, New York 10007 | New Jersey, New York, Puerto Rico, Virgin Islands.
III | Director, Air and Waste Management Division, U.S. Environmental Protection Agency, 841 Chestnut Building, Philadelphia, Pennsylvania 19107 | Delaware, District of Columbia, Maryland, Pennsylvania, Virginia, West Virginia.
IV | Director, Air and Radiation Division, 61 Forsyth Street SW, Atlanta, Georgia 30303-8960 | Alabama, Florida, Georgia, Kentucky, Mississippi, North Carolina, South Carolina, Tennessee.
V | Director, Air Management Division, U.S. Environmental Protection Agency, 77 West Jackson Boulevard, Chicago, Illinois 60604-3507 | Illinois, Indiana, Michigan, Minnesota, Ohio, Wisconsin.
VI | Director; Compliance Assurance and Enforcement Division; U.S. Environmental Protection Agency, 1201 Elm Street, Suite 500, Mail Code 6ECD, Dallas, Texas 75270-2102 | Arkansas, Louisiana, New Mexico, Oklahoma, Texas.
VII | Director, Air and Waste Management Division, 11201 Renner Boulevard, Lenexa, Kansas 66219 | Iowa, Kansas, Missouri, Nebraska.
VIII | Director, Air and Waste Management Division, U.S. Environmental Protection Agency, 999 18th Street, Suite 500, Denver, Colorado 80295 | Colorado, Montana, North Dakota, South Dakota, Utah, Wyoming.
IX | Director, Air Division, U.S. Environmental Protection Agency, 75 Hawthorne Street, San Francisco, CA 94105 | Arizona, California, Hawaii, Nevada; the territories of American Samoa and Guam; the Commonwealth of the Northern Mariana Islands; the territories of Baker Island, Howland Island, Jarvis Island, Johnston Atoll, Kingman Reef, Midway Atoll, Palmyra Atoll, and Wake Islands; and certain U.S. Government activities in the freely associated states of the Republic of the Marshall Islands, the Federated States of Micronesia, and the Republic of Palau.
X | Director, Air and Waste Management Division, U.S. Environmental Protection Agency, 1200 Sixth Avenue, Seattle, Washington 98101 | Alaska, Oregon, Idaho, Washington.

* * * * *

PART 147—STATE, TRIBAL, AND EPA-ADMINISTERED UNDERGROUND INJECTION CONTROL PROGRAMS

19. The authority citation for part 147 continues to read as follows:

Authority: 42 U.S.C. 300f et seq.; and 42 U.S.C. 6901 et seq.

Subpart L—Georgia

20. Section 147.550 is amended by revising paragraph (a) introductory text to read as follows:

§ 147.550 State-administered program.

* * * * *

(a) Incorporation by reference. The requirements set forth in the State statutes and regulations cited in this paragraph (a) are hereby incorporated by reference and made a part of the applicable UIC program under the SDWA for the State of Georgia. This incorporation by reference was approved by the Director of the OFR in accordance with 5 U.S.C. 552(a) and 1 CFR part 51. Copies may be obtained at the Georgia Department of Natural Resources, Environmental Protection Division, 2 Martin Luther King Jr. Drive SE, East Tower—Suite 1456, Atlanta, Georgia 30334-9000. Copies may be inspected at the Environmental Protection Agency, Region IV, 61 Forsyth Street SW, Atlanta, Georgia 30303-8960, or at the National Archives and Records Administration (NARA). For information on the availability of this material at NARA, visit www.archives.gov/federal-register/cfr/ibr-locations or email fr.inspection@nara.gov.

* * * * *

Subpart II—North Carolina

21. Section 147.1700 is amended by revising paragraph (a) introductory text to read as follows:

§ 147.1700 State-administered program.

* * * * *

(a) Incorporation by reference. The requirements set forth in the State statutes and regulations cited in this paragraph (a) are hereby incorporated by reference and made a part of the applicable UIC program under the SDWA for the State of North Carolina. This incorporation by reference was approved by the Director of the OFR in accordance with 5 U.S.C. 552(a) and 1 CFR part 51. Copies may be obtained at the North Carolina Department of Environmental Quality, Division of Water Resources, Attention UIC Program, 1636 Mail Service Center, Raleigh, North Carolina 27699. Copies may be inspected at the Environmental Protection Agency, Region IV, 61 Forsyth Street SW, Atlanta, Georgia 30303-8960, or at the National Archives and Records Administration (NARA). For information on the availability of this material at NARA, visit www.archives.gov/federal-register/cfr/ibr-locations or email fr.inspection@nara.gov.

* * * * *

PART 374—PRIOR NOTICE OF CITIZEN SUITS

24. The authority citation for part 374 continues to read as follows:

Authority: 42 U.S.C. 9659.

25. Section 374.6 is revised and republished to read as follows:

§ 374.6 Addresses.

Table 1 to § 374.6
Addressee | Address
Administrator | U.S. Environmental Protection Agency, 1200 Pennsylvania Ave. NW (1101), Washington, DC 20460.
Regional Administrator, Region I | U.S. Environmental Protection Agency, 5 Post Office Square—Suite 100, Boston, MA 02109-3912.
Regional Administrator, Region II | U.S. Environmental Protection Agency, 26 Federal Plaza, Room 930, New York, NY 10278.
Regional Administrator, Region III | U.S. Environmental Protection Agency, 841 Chestnut Street, Philadelphia, PA 19107.
Regional Administrator, Region IV | U.S. Environmental Protection Agency, 61 Forsyth Street SW, Atlanta, Georgia 30303-8960.
Regional Administrator, Region V | U.S. Environmental Protection Agency, 77 West Jackson Boulevard, Chicago, IL 60604.
Regional Administrator, Region VI | U.S. Environmental Protection Agency, 1201 Elm Street, Suite 500, Dallas, Texas 75270-2102.
Regional Administrator, Region VII | U.S. Environmental Protection Agency, 11201 Renner Boulevard, Lenexa, Kansas 66219.
Regional Administrator, Region VIII | U.S. Environmental Protection Agency, 999 18th Street, Suite 500, Denver, CO 80202-2405.
Regional Administrator, Region IX | U.S. Environmental Protection Agency, 75 Hawthorne Street, San Francisco, CA 94105.
Regional Administrator, Region X | U.S. Environmental Protection Agency, 1200 Sixth Avenue, Seattle, WA 98101.
Administrator | Agency for Toxic Substances and Disease Registry, Center for Disease Control, 200 Independence Avenue SW, Washington, DC 20201.
Attorney General | United States Department of Justice, Tenth and Pennsylvania Avenues NW, Washington, DC 20530.

PART 707—CHEMICAL IMPORTS AND EXPORTS

26. The authority citation for part 707 continues to read as follows:

Authority: 15 U.S.C. 2611(b) and 2612.

Subpart B—General Import Requirements and Restrictions

27. Section 707.20 is amended by revising and republishing paragraph (c)(2)(ii) to read as follows:

§ 707.20 Chemical substances import policy.

* * * * *

(c) * * *

(2) * * *

(ii) When EPA determines that a shipment should be detained, EPA will identify the reasons for the detention and the necessary actions for an importer to bring the shipment into compliance with TSCA. If EPA has given this information to Customs before the district director issues the detention notice, the information will become part of the detention notice. The importer should contact one of the following EPA regional offices for guidance as to the proper procedures to correct any deficiencies in the shipment.

Table 1 to Paragraph (c)(2)(ii)
Region | Address
I | 5 Post Office Square—Suite 100, Boston, MA 02109-3912 (617-918-1700).
II | 26 Federal Plaza, New York, NY 10278 (201-321-6669).
III | Curtis Building, 6th and Walnut Streets, Philadelphia, PA 19106 (215-597-7668).
IV | 61 Forsyth Street SW, Atlanta, Georgia 30303-8960 (404-562-9900).
V | 77 West Jackson Boulevard, Chicago, IL 60604 (312-353-2291).
VI | 1201 Elm Street, Suite 500, Dallas, Texas 75270-2102 (214-665-2760).
VII | 11201 Renner Boulevard, AWMD/WEMM, Lenexa, Kansas 66219.
VIII | 1860 Lincoln Street, Denver, CO 80295 (303-837-3926).
IX | 75 Hawthorne Street, San Francisco, CA 94105 (415) 947-4402.
X | 1200 Sixth Avenue, Seattle, WA 98101 (206-442-2871).

* * * * *

PART 763—ASBESTOS

28. The authority citation for part 763 continues to read as follows:

Authority: 15 U.S.C. 2605, 2607(c), 2643, and 2646.

29. Appendix C to subpart E is amended under section II.C.3 by revising the listing for “EPA, Region IV” to read as follows:

Appendix C to Subpart E of Part 763—Asbestos Model Accreditation Plan

* * * * *

II. * * *

C. * * *

3. * * *

EPA, Region IV, Asbestos Coordinator, 61 Forsyth Street SW, Atlanta, Georgia 30303-8960, (404) 562-9900.

* * * * *

30. Appendix D to subpart E is amended by revising the listing for “Region IV” to read as follows:

Appendix D to Subpart E of Part 763—Transport and Disposal of Asbestos Waste

* * * * *

Region IV

Asbestos NESHAPs Contact, Enforcement and Compliance Assurance Division, USEPA, Region IV, 61 Forsyth Street SW, Atlanta, Georgia 30303-8960, (404) 562-9900.

* * * * *

[FR Doc. 2024-25014 Filed 10-30-24; 8:45 am]

BILLING CODE 6560-50-P